DEPARTMENT OF ENERGY

Federal Energy Regulatory Commission

Combined Notice of Filings #1

Take notice that the Commission received the following electric corporate filings:

Docket Numbers: EC15-1-000.

Applicants: UIF GP, LLC, Neptune Power Ventures, LLC, Cianbro Development Corporation, Standard Energy Development Inc., CTSBM Investments LLC, Charles E. Hewett.

Description: Application for Authorization for Disposition of Jurisdictional Facilities, Requests for Confidential Treatment, Waivers, and Expedited Consideration of UIF GP, LLC, et. al.

Filed Date: 10/3/14.

Accession Number: 20141003-5044.

Comments Due: 5 p.m. ET 10/24/14.

Docket Numbers: EC15-2-000.

Applicants: CER Generation II, LLC, West Valley Power Holdings, LLC.

Description: Joint Application for Authorizations under Section 203 of the Federal Power Act of CER Generation II, LLC, and West Valley Power Holdings, LLC.

Filed Date: 10/3/14.

Accession Number: 20141003-5147.

Comments Due: 5 p.m. ET 10/24/14.

Take notice that the Commission received the following electric rate filings:

Docket Numbers: ER14-2580-001.

Applicants: Midcontinent Independent System Operator, Inc.

Description: Tariff Amendment per 35.17(b): 2014-10-03_SA 2683 GRE-OTP Pelican North Tap T-L Substitute to be effective 8/5/2014.

Filed Date: 10/3/14.

Accession Number: 20141003-5026.

Comments Due: 5 p.m. ET 10/24/14.

Docket Numbers: ER15-22-000.

Applicants: Southern California Edison Company.

Description: § 205(d) rate filing per 35.13(a)(2)(iii): True-Up SGIA and Distribution Service Agmt with SCE GBU SPVP2 Project to be effective 12/3/2014.

Filed Date: 10/3/14.

Accession Number: 20141003-5001.

Comments Due: 5 p.m. ET 10/24/14.

Docket Numbers: ER15-23-000.

Applicants: New York Independent System Operator, Inc.

Description: § 205(d) rate filing per 35.13(a)(2)(iii): NYISO 205 tariff revision OATT Attachment L Table 1A to be effective 12/2/2014.

Filed Date: 10/3/14.

Accession Number: 20141003-5056.

Comments Due: 5 p.m. ET 10/24/14.

Docket Numbers: ER15-24-000.

Applicants: Commonwealth Edison Company, PJM Interconnection, L.L.C.

Description: § 205(d) rate filing per 35.13(a)(2)(iii): Original Service Agreement No. 3977 to be effective 10/8/2014.

Filed Date: 10/3/14.

Accession Number: 20141003-5074.

Comments Due: 5 p.m. ET 10/24/14.

Docket Numbers: ER15-25-000.

Applicants: Pacific Gas and Electric Company.

Description: § 205(d) rate filing per 35.13(a)(2)(iii): Amendment to BART NITS (MacArthur Parking Garage) Filing to be effective 12/3/2014.

Filed Date: 10/3/14.

Accession Number: 20141003-5108.

Comments Due: 5 p.m. ET 10/24/14.

Docket Numbers: ER15-26-000.

Applicants: Public Service Company of Colorado.

Description: § 205(d) rate filing per 35.13(a)(2)(iii): 2014-10-3_WAPA-IEO-M Agrmt-367-0.0.0-Filing to be effective 12/2/2014.

Filed Date: 10/3/14.

Accession Number: 20141003-5134.

Comments Due: 5 p.m. ET 10/24/14.

Docket Numbers: ER15-27-000.

Applicants: New Athens Generating Company, LLC.

Description: § 205(d) rate filing per 35.13(a)(2)(iii): MBR Tariff Revision Filing to be effective 10/6/2014.

Filed Date: 10/3/14.

Accession Number: 20141003-5149.

Comments Due: 5 p.m. ET 10/24/14.

Docket Numbers: ER15-28-000.

Applicants: New Harquahala Generating Company, LLC.

Description: § 205(d) rate filing per 35.13(a)(2)(iii): Proposed Revisions to MBR Tariff to be effective 10/6/2014.

Filed Date: 10/3/14.

Accession Number: 20141003-5165.

Comments Due: 5 p.m. ET 10/24/14.

Docket Numbers: ER15-29-000.

Applicants: PJM Interconnection, L.L.C.

Description: § 205(d) rate filing per 35.13(a)(2)(iii): Revisions to Progress-PJM JOA re adding PEC-PJM tie line information to be effective 12/3/2014.

Filed Date: 10/3/14.

Accession Number: 20141003-5169.

Comments Due: 5 p.m. ET 10/24/14.

Docket Numbers: ER15-30-000.

Applicants: Seiling Wind Interconnection Services, LLC.

Description: Baseline eTariff Filing per 35.1: Seiling Wind Interconnection Services, LLC MBR Application to be effective 12/2/2014.

Filed Date: 10/3/14.

Accession Number: 20141003-5170.

Comments Due: 5 p.m. ET 10/24/14.

Docket Numbers: ER15-31-000.

Applicants: The Dayton Power and Light Company.

Description: Baseline eTariff Filing per 35.1: FERC Rate Schedule No. 301, Village of Arcanum to be effective 1/1/2015.

Filed Date: 10/3/14.

Accession Number: 20141003-5171.

Comments Due: 5 p.m. ET 10/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2014.
Nathaniel J. Davis, Sr.,
Deputy Secretary.

[FR Doc. 2014-24315 Filed 10-10-14; 8:45 am]

BILLING CODE 6717-01-P